SECURITIES AND EXCHANGE COMMISSION

[File No. 500-1]

Order of Suspension of Trading; In the Matter of Aspire International, Inc., Border Management, Inc., and Landmark Energy Enterprises, Inc.

March 5, 2015.

It appears to the Securities and Exchange Commission that there is a lack of current and accurate information concerning the securities of Aspire International, Inc. because it has not filed any periodic reports since the period ended December 31, 2010.

It appears to the Securities and Exchange Commission that there is a lack of current and accurate information concerning the securities of Border Management, Inc. because it has not filed any periodic reports since the period ended September 30, 2011.

It appears to the Securities and Exchange Commission that there is a lack of current and accurate information concerning the securities of Landmark Energy Enterprises, Inc. because it has not filed any periodic reports since the period ended July 31, 2012.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on March 5, 2015, through 11:59 p.m. EDT on March 18, 2015.

By the Commission.
Jill M. Peterson,
Assistant Secretary.

[FR Doc. 2015-05516 Filed 3-6-15; 11:15 am]

BILLING CODE 8011-01-P